DEPARTMENT OF COMMERCE

International Trade Administration

[A-583-831]

Stainless Steel Sheet and Strip in Coils from Taiwan: Notice of Extension of Time Limits for Preliminary Results of Antidumping Duty Administrative Review

AGENCY: Import Administration, International Trade Administration, Department of Commerce.

EFFECTIVE DATE: April 6, 2010.

FOR FURTHER INFORMATION CONTACT: Henry Almond, AD/CVD Operations, Office 2, Import Administration, International Trade Administration, U.S. Department of Commerce, 14th Street and Constitution Avenue, NW, Washington, DC 20230; telephone: (202) 482-0049.

SUPPLEMENTARY INFORMATION:

Background

On July 1, 2009, the Department of Commerce (the Department) published a notice in the Federal Register of opportunity to request administrative review of the antidumping duty order on stainless steel sheet and strip in coils from Taiwan. See Antidumping or Countervailing Duty Order, Finding, or Suspended Investigation; Opportunity To Request Administrative Review, 74 FR 31406 (July 1, 2009). On July 28, 2009, Chia Far Industrial Factory Co., Ltd. (Chia Far) requested an administrative review of its entries during the period of review (POR) of July 1, 2008, through June 30, 2009. On July 31, 2009, the petitioners¹ requested a review with respect to Chia Far and 22 additional companies.

¹ The petitioners in this proceeding are Allegheny Ludlum Corporation, AK Steel Corporation, North American Stainless, United Auto Workers Local 3303, United Steelworkers of America, AFL-CIO/CLC, and Zanesville Armco Independent Organization.

On August 25, 2009, the Department published a notice of initiation of administrative review of the antidumping duty order on stainless steel sheet and strip in coils from Taiwan for the POR with respect to 23 companies. See Initiation of Antidumping and Countervailing Duty Administrative Reviews and Request for Revocation in Part, 74 FR 42873 (Aug. 25, 2009).

As explained in the memorandum from the Deputy Assistant Secretary for Import Administration, the Department has exercised its discretion to toll deadlines for the duration of the closure of the Federal Government from February 5, through February 12, 2010. Thus, all deadlines in this segment of the proceeding have been extended by seven days. Therefore, the preliminary results are currently due no later than April 9, 2010. See Memorandum to the Record from Ronald Lorentzen, DAS for Import Administration, regarding “Tolling of Administrative Deadlines As a Result of the Government Closure During the Recent Snowstorm,” dated February 12, 2010.

Extension of Time Limit for Preliminary Results

Pursuant to section 751(a)(3)(A) of Tariff Act of 1930, as amended (the Act), the Department shall make a preliminary determination in an administrative review of an antidumping order within 245 days after the last day of the anniversary month of the date of publication of the order. Section 751(a)(3)(A) of the Act further provides, however, that the Department may extend the 245-day period to 365 days if it determines it is not practicable to complete the review within the foregoing time period. We determine that it is not practicable to complete this administrative review within the time limits mandated by section 751(a)(3)(A) of the Act because we require additional time to analyze and verify the data submitted by Chia Far, the sole respondent selected for individual examination. In accordance with section 751(a)(3)(A) of the Act, we have fully extended the deadline for completing the preliminary results until August 7, 2010. Because August 7, 2010, falls on a weekend, the actual due date is now August 9, 2010. The deadline for the final results of the review continues to be 120 days after the publication of the preliminary results.

This notice is published in accordance with sections 751(a)(3)(A) and 777(i) of the Act.

Dated: March 31, 2010.
John M. Andersen,
Acting Deputy Assistant Secretary for Antidumping and Countervailing Duty Operations.

[FR Doc. 2010-7759 Filed 4-5-10; 8:45 am]

BILLING CODE 3510-DS-S